SECURITIES AND EXCHANGE COMMISSION

[Release No. 34-83737; File No. SR-BOX-2018-20]

Self-Regulatory Organizations; BOX Options Exchange LLC; Notice of Withdrawal of Proposed Rule Change To Amend BOX Rule 7300 (Preferenced Orders) To Provide an Additional Allocation Preference to Preferred Market Makers

July 30, 2018.

On June 13, 2018, BOX Options Exchange LLC (the “Exchange”) filed with the Securities and Exchange Commission (“Commission”), pursuant to Section 19(b)(1) of the Securities Exchange Act of 1934 ¹ and Rule 19b-4 thereunder,² a proposed rule change to amend Exchange Rule 7300 (Preferenced Orders) to provide an additional allocation preference to Preferred Market Makers. The proposed rule change was published for comment in the Federal Register on July 2, 2018.³ The Commission received one comment letter on the proposal.⁴ On July 25, 2018, the Exchange withdrew the proposed rule change (SR-BOX-2018-20).

¹ 15 U.S.C. 78s(b)(1).

² 17 CFR 240.19b-4.

³ See Securities Exchange Act Release No. 83525 (June 26, 2018), 83 FR 31006.

⁴ See Letter to Brent J. Fields, Secretary, Commission, from Richard J. McDonald, Susquehanna International Group, LLP, dated July 23, 2018.

For the Commission, by the Division of Trading and Markets, pursuant to delegated authority.⁵
⁵ 17 CFR 200.30-3(a)(12).
Robert W. Errett,
Deputy Secretary.

[FR Doc. 2018-16595 Filed 8-2-18; 8:45 am]

BILLING CODE 8011-01-P